FEDERAL MARITIME COMMISSION

Notice of Request for Additional Information

The Commission gives notice that it has formally requested that the parties to the below listed agreement provide additional information pursuant to 46 U.S.C. 40304(d). This action prevents the agreement from becoming effective as originally scheduled. Interested parties may file comments within fifteen (15) days after publication of this notice appears in the Federal Register.

Agreement No.: 201391.

Title: South Atlantic Multiport Chassis Pool Agreement.

Parties: COSCO SHIPPING Lines Co., Ltd.; Georgia Ports Authority; Hamburg Sud; Hapag Lloyd AG; Hapag-Lloyd USA, LLC; Jacksonville Port Authority; Maersk A/S; Mediterranean Shipping Company S.A.; North Carolina State Ports Authority; Ocean Carrier Equipment Management Association; Ocean Network Express Pte. Ltd.; Wan Hai Lines Ltd.; ZIM Integrated Shipping Services Ltd.

By Order of the Federal Maritime Commission.
Dated: August 11, 2022
William Cody,
Secretary.

[FR Doc. 2022-17695 Filed 8-16-22; 8:45 am]

BILLING CODE 6730-02-P